DEPARTMENT OF THE INTERIOR

National Park Service

[NPS-NERO-ACAD-24432; PPNEACADSO, PPMPSPDIZ.YM0000]

Acadia National Park Advisory Commission 2018 Meeting Schedule

AGENCY: National Park Service, Interior.

ACTION: Meeting notice.

SUMMARY: The National Park Service is hereby giving notice of the 2018 meeting schedule for the Acadia National Park Advisory Commission.

DATES: All meetings will begin 1:00 p.m. (EASTERN). The meetings are scheduled for: Monday, March 12, 2018; Monday, June 4, 2018; and Monday, September 10, 2018.

ADDRESSES: For the March 12, 2018, and June 4, 2018, meetings, the Commission will meet at the Acadia National Park headquarters conference room, 20 McFarland Hill Drive, Bar Harbor, Maine 04609. For the September 10, 2018, meeting, the Commission will meet at Schoodic Education and Research Center, Winter Harbor, Maine 04693.

FOR FURTHER INFORMATION CONTACT: Michael Madell, Deputy Superintendent, Acadia National Park, P.O. Box 177, Bar Harbor, Maine 04609, telephone (207) 288-3338 or via email michael_madell@nps.gov.

SUPPLEMENTARY INFORMATION: The Acadia National Park Advisory Commission was established by Section of 103 of Public Law 99-420, September 25, 1986, to consult with the Secretary of the Interior on matters relating to the management and development of Acadia National Park including, but not limited to, the acquisition of lands and interests in lands (including conservation easements on islands) and termination of rights of use and occupancy.

The meetings are open to the public. Interested persons may make oral or written presentations to the Commission or file written statements. Such requests should be made to the Superintendent at least seven days prior to the meeting.

The Commission meeting locations may change based on inclement weather or exceptional circumstances. If a meeting location is changed, the Superintendent will issue a press release and use local newspapers to announce the change.

Agenda: The Commission meeting will consist of the following proposed agenda items:

1. Committee Reports:

• Land Conservation

• Park Use

• Science and Education

• Historic

2. Old Business

3. Superintendent's Report

4. Chairman's Report

5. Public Comments

6. Adjournment

Before including your address, telephone number, email address, or other personal identifying information in your comments, you should be aware that your entire comment—including your personal identifying information—may be made publicly available at any time. While you can ask us in your comment to withhold your personal identifying information from public review, we cannot guarantee that we will be able to do so.

Alma Ripps,
Chief, Office of Policy.

[FR Doc. 2018-02633 Filed 2-8-18; 8:45 am]

BILLING CODE 4312-52-P